DEPARTMENT OF ENERGY

[Docket No. EA-260-A]

Application To Export Electric Energy; EPCOR Merchant and Capital (US) Inc.

AGENCY: Office of Fossil Energy, DOE.

ACTION: Notice of application.

SUMMARY: EPCOR Merchant and Capital (US) Inc. (EMC) has applied to renew its authority to transmit electric energy from the United States to Canada pursuant to section 202(e) of the Federal Power Act.

DATES: Comments, protests or requests to intervene must be submitted on or before September 20, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On April 8, 2002, the Office of Fossil Energy (FE) of the Department of Energy (DOE) issued Order No. EA-260 authorizing EMC to transmit electric energy from the United States to Canada as a power marketer using existing international electric transmission facilities. That two-year authorization expired on April 8, 2004.

On July 8, 2004, FE received an application from EMC to renew its authorization to transmit electric energy from the United States to Canada. DOE requests that this renewal be issued for a five-year term. EMC is a Delaware corporation with its principal place of business in Calgary, Alberta, Canada. EMC is an indirect, wholly-owned subsidiary of EPCORE Utilities Inc. of Edmonton, Alberta, Canada. EMC is a power marketer that does not own or control any electric generation or transmission facilities nor does it have a franchised service territory in the United States.

In FE Docket No. EA-260-A, EMC proposes to export electric energy to Canada and to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by EMC, as more fully described in its application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the EMC applications to export electric energy to Canada should be clearly marked with Docket EA-260-A. Additional copies are to be filed directly with Riaz Jessa, Transaction Accounting Assistant, EPCOR Merchant and Capital (US) Inc., EPCOR Place, 8th Floor, 505—2nd Street, SW., Calgary, Alberta T2P 1N8, Canada and Sandra E. Rizzo, Esq., Preston Gates Ellis, & Rouvelas Meeds, LLP, 1735 New York Avenue, NW., Suite 500, Washington, DC 20006.

Copies of this application will be made available, upon request, for public inspection and copying at the address provided above or by accessing the Fossil Energy home page at http://www.fe.doe.gov. Upon reaching the Fossil Energy home page, select “Electricity Regulation,” and then “Pending Proceedings” from the options menus.

Issued in Washington, DC, on August 16, 2004.
Ellen Russell,
Acting Deputy Director, Electric Power Regulation, Office of Coal & Power Import/Export, Office of Coal & Power Systems, Office of Fossil Energy.

[FR Doc. 04-19123 Filed 8-19-04; 8:45 am]

BILLING CODE 6450-01-P